DEPARTMENT OF STATE

[Public Notice 4389]

Culturally Significant Objects Imported for Exhibition; Determinations: “Hudson River School Visions: The Landscapes of Sanford R. Gifford”

AGENCY: Department of State.

ACTION: Notice.

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999 (64 FR 56014), and Delegation of Authority No. 236 of October 19, 1999 (64 FR 57920), as amended, I hereby determine that the object to be included in the exhibition, “Hudson River School Visions: The Landscapes of Sanford R. Gifford,” imported from abroad for temporary exhibition within the United States, is of cultural significance. The object is imported pursuant to a loan agreement with a foreign lender. I also determine that the exhibition or display of the exhibit object at the Metropolitan Museum of Art, New York, New York, from on or about October 7, 2003, to on or about February 8, 2004, the Amon Carter Museum, Fort Worth, Texas, from on or about May 4, 2004, to on or about May 16, 2004, the National Gallery of Art, Washington, DC, from on or about June 27, 2004, to on or about September 26, 2004, and at possible additional venues yet to be determined, is in the national interest. Public Notice of these determinations is ordered to be published in the Federal Register.

FOR FURTHER INFORMATION CONTACT: For further information, including a description of the exhibit object, contact Paul W. Manning, Attorney-Adviser, Office of the Legal Adviser, 202/619-5997, and the address is United States Department of State, SA-44, Room 700, 301 4th Street, SW., Washington, DC 20547-0001.

Dated: June 23, 2003.
C. Miller Crouch,
Principal Deputy Assistant Secretary for Educational and Cultural Affairs, Department of State.

[FR Doc. 03-16591 Filed 6-30-03; 8:45 am]

BILLING CODE 4710-08-P